DEPARTMENT OF THE INTERIOR

Fish and Wildlife Service

Cullinan Ranch Unit Restoration Project, San Pablo Bay National Wildlife Refuge, Solano County, CA

AGENCY: Fish and Wildlife Service, Interior.

ACTION: Notice of availability; request for comments: Draft environmental impact statement and environmental impact report.

SUMMARY: We, the U.S. Fish and Wildlife Service (Service) and the California Department of Fish and Game (CDFG) are proposing a restoration plan for 1,500 acres (ac) of former hayfield farm land in the San Pablo Bay. This restoration project would combine tidal salt marsh habitat for endangered species, waterfowl, waterbirds, and fish, as well as public access features to increase accessibility to wildlife resource values in the San Pablo Bay, while minimizing project-induced flood impacts to Highway 37. In accordance with the National Environmental Policy Act of 1969 (NEPA), this notice advises other agencies, Tribes, and the public that the draft environmental impact statement and environmental impact report (DEIS/EIR) on the proposed tidal marsh restoration project at Cullinan Ranch, a unit of the San Pablo Bay National Wildlife Refuge (Refuge), Solano and Napa Counties, California, is now available for review. We invite and encourage interested persons to review the document and submit written comments to identify issues related to the alternatives we address in the DEIS/EIR.

DATES: We must receive written comments at the address below on or before June 17, 2008. You may submit comments by any one of the methods we describe under ADDRESSES. We will hold a public meeting in May 2008, to solicit comments. See SUPPLEMENTARY INFORMATION for more information.

ADDRESSES: The Draft EIS/EIR is available for review at:

• Refuge Headquarters Office, San Pablo Bay National Wildlife Refuge, 2100 Highway 37, Petaluma, CA 94954; (707) 769-4200.

• San Francisco Bay National Wildlife Refuge Complex, 9500 Thornton Avenue, Newark, CA 94560; (510) 792-0222.

• John F. Kennedy Public Library, 505 Santa Clara, Vallejo, CA 94590.

• http://www.fws.gov/sfbayrefuges/San%20Pablo/SanPablo.htm.

Written comments and requests for information may be mailed to:

Christy Smith, Refuge Manager, San Pablo Bay National Wildlife Refuge, 7715 Lakeville Highway, Petaluma, California 94954. Written comments may also be sent by facsimile to (707) 769-8106.

FOR FURTHER INFORMATION CONTACT: Christy Smith, Refuge Manager, San Pablo Bay NWR, (707) 769-4200 (phone); christy_smith@fws.gov(e-mail), OR Louis Terrazas, Wildlife Refuge Specialist, San Pablo Bay NWR, (707) 769-4200 (phone); louis_terrazas@fws.gov (e-mail).

SUPPLEMENTARY INFORMATION:

Location

Located within the existing Refuge boundary, the Cullinan Ranch Unit is bordered by the South Slough and Dutchman Slough to the north and State Route 37 to the south. California Department of Fish and Game Pond 1 borders Cullinan Ranch to the west. Guadalcanal Village Wetlands (Guadalcanal), which is owned by the State of California and is currently being restored to tidal marsh, borders Cullinan Ranch to the east.

Background

The Cullinan Ranch restoration project would restore approximately 1,500 acres of diked baylands to historic tidal conditions by reintroducing tidal flow into the project area. This area, Cullinan Ranch, is located in an area of the Napa River Delta that was historically defined by a network of meandering sloughs and extensive estuarine tidal marshes. Reintroduction of tidal flow will restore vital salt marsh habitat for endangered species, including the salt marsh harvest mouse (Reithrodontomys raviventris), and the California clapper rail (Rallus longirostris obsoletus), as well as provide foraging and roosting habitat for fish, migratory waterfowl and waterbirds.

The proposed restoration is based on the concept that reintroduction of tidal waters will naturally develop salt-water marsh habitat conditions. The existing perimeter levee currently prevents tidal flows into the area and, as a result, the land has subsided several feet in elevation and becomes inundated with fresh water during the rainy season. Once restored, twice-daily tidal flows would carry and deposit sediment, eventually establishing marsh plain elevations sufficient to support tidal marsh vegetation. As tidal waters enter and exit the site, tidal channels would develop or re-establish from previous channels. Continued tidal action would maintain an active exchange of water, sediment and nutrients between the marsh habitat and the Bay, further enhancing the value of the habitat for plants and wildlife.

In keeping with one of the purposes of the Refuge “to conserve fish, wildlife, or plants which are listed as endangered species or threatened species,” the Cullinan Ranch restoration project would restore historic salt marsh habitat for the benefit of threatened and endangered species as well as many other estuarine-dependent species.

We announced a notice of intent to prepare an Environmental Assessment on July 15, 2002, and sent notices to various newspapers in the San Francisco Bay area. We conducted a public scoping meeting on August 7, 2002 (67 FR 135). We held a second public scoping meeting on March 9, 2007 (72 FR 46). During preparation of the Environmental Assessment, we determined that the scope of the restoration would require an environmental impact statement. On September 6, 2007, we announced a notice of intent to prepare an environmental impact statement and sent notices to various newspapers and interested parties and agencies in the San Francisco Bay area.

Because some of the proposed project area includes State lands, we have prepared the DEIS/EIR to satisfy the requirements of both NEPA and the California Environmental Quality Act (CEQA). The California Department of Fish and Game is the CEQA lead agency for this project. The potential impacts of a “no-action” alternative and two “action” alternatives are assessed and, where appropriate, mitigation measures are applied to reduce the intensity of the potential effect or to avoid the potential effect.

Alternatives

We identified and analyzed a total of eight alternatives. The alternatives were analyzed based on a set of criteria, including effects to adjacent habitats; effects to the existing levees; effects on the hydrology of the existing slough channels and adjacent water bodies; costs of implementing restoration activities and long-term maintenance; and effects of project construction on existing uses on and adjacent to the Cullinan Ranch Site (Site). We removed five of these alternatives from further consideration because they did not meet the cost and engineering feasibility criteria as set forth by the lead agencies. Many of the alternatives considered were formulated with optional implementation features in order to minimize effects on adjacent habitats (such as the fringe marshes along Dutchman Slough and Pritchett Marsh), such as staging the Proposed Action and/or limiting the amount of tidal exchange. We analyzed these features but removed them from further consideration because hydrologic modeling revealed that they would not significantly reduce adverse effects to adjacent habitats. Based on additional hydrologic modeling and information obtained from the Napa Sonoma Restoration Project (NSRP), the lead agencies carried forward three possible alternatives to environmental analysis: The No-Action Alternative, the Preferred Restoration Alternative, and the Partial Restoration Alternative.

No-Action Alternative

Under the No-Action Alternative, the lead agencies would take no action to restore tidal influence to the Site; however, continued maintenance of the Dutchman and South Slough levees would occur. Under this alternative, because the lead agencies would be required to maintain the northern levee along Dutchman Slough in perpetuity, maintenance activities would likely increase as the levees age and scour increases in response to activities undertaken by the NSRP. Under the No-Action Alternative, the components of the Proposed Action would not be implemented.

Preferred Restoration Alternative

The Preferred Restoration Alternative would restore the entire 1,500-ac Cullinan Ranch Site with implementation of the following project components:

• Component 1: Construct boardwalk to provide access to existing electrical towers.

• Component 2: Block drainage ditches to promote redevelopment of natural sloughs.

• Component 3: Improve the DFG Pond 1 levee and install water control structures.

• Component 4: Protect Highway 37 from project-induced flooding and erosion, through levee construction.

• Component 5: Construct public access areas.

• Component 6: Breach the levees along Dutchman and South Sloughs and Guadalcanal Village.

• Component 7: Implement long-term monitoring.

Partial Restoration Alternative

The Partial Restoration Alternative would restore 300 ac of the Cullinan Ranch Site. The Partial Restoration Alternative was developed in order to limit potential impacts to the hydrology of Dutchman Slough. While it would meet the purpose and need of the project, a smaller overall area within Cullinan Ranch would be restored, and connectivity with other adjacent restoration projects would be limited.

The Partial Restoration Alternative would include implementation of the following project components:

• Component 1: Block drainage ditches to promote redevelopment of natural Sloughs.

• Component 2: Construct internal levee.

• Component 3: Protect Highway 37 from project-induced flooding and erosion, through levee construction.

• Component 4: Breach the levee along Dutchman Slough.

• Component 5: Long-term monitoring.

Public Meeting

We will hold one public meeting in to solicit comments on the DEIS/EIR on May 30, 2008, at the Mare Island Conference Center, 375 G Street, Mare Island, Vallejo, CA 94954, from 3 p.m. to 4 p.m.

Public Comments

We invite the public to comment on the DEIS/EIR during the comment period. Before including your address, phone number, e-mail address, or other personal identifying information in your comment, you should be aware that your entire comment—including your personal identifying information—may be made publicly available at any time. While you can ask us in your comment to withhold your personal identifying information from public review, we cannot guarantee that we will be able to do so. We will use the comments to prepare a final environmental impact statement/environmental impact report. A decision will be made no sooner than 30 days after the publication of the final environmental impact statement. We anticipate that a Record of Decision will be issued by the Service in the summer of 2008.

We provide this notice under regulations implementing NEPA (40 CFR 1506.6).

Dated: April 23, 2008.
Ken McDermond,
Acting Regional Director, Region 8.

[FR Doc. E8-9675 Filed 5-1-08; 8:45 am]

BILLING CODE 4310-55-P